INTERNATIONAL TRADE COMMISSION

[Investigation No. 731-TA-683 (Fifth Review)]

Fresh Garlic From China

Determination

On the basis of the record ¹ developed in the subject five-year review, the United States International Trade Commission (“Commission”) determines, pursuant to the Tariff Act of 1930 (“the Act”), that revocation of the antidumping duty order on fresh garlic from China would be likely to lead to continuation or recurrence of material injury to an industry in the United States within a reasonably foreseeable time.

¹ The record is defined in § 207.2(f) of the Commission's Rules of Practice and Procedure (19 CFR 207.2(f)).

Background

The Commission instituted this review on October 3, 2022 (87 FR 59824) and determined on January 6, 2023 that it would conduct an expedited review (88 FR 20186, April 5, 2023).

The Commission made this determination pursuant to section 751(c) of the Act (19 U.S.C. 1675(c)). It completed and filed its determination in this review on May 12, 2023. The views of the Commission are contained in USITC Publication 5425 (May 2023), entitled Fresh Garlic from China: Investigation No. 731-TA-683 (Fifth Review).

By order of the Commission.
Issued: May 12, 2023.
Katherine Hiner,
Supervisory Attorney.

[FR Doc. 2023-10531 Filed 5-16-23; 8:45 am]

BILLING CODE 7020-02-P